ENVIRONMENTAL PROTECTION AGENCY

40 CFR Part 52

[RME Docket Number R08-OAR-2004-CO-0004; FRL-7954-7]

Approval and Promulgation of Air Quality Implementation Plans; State of Colorado; Greeley Revised Carbon Monoxide Maintenance Plan and Approval of Related Revisions

AGENCY: Environmental Protection Agency (EPA).

ACTION: Final rule.

SUMMARY: On May 17, 2005, EPA published a notice of proposed rulemaking (NPR) to propose approval of Colorado's revised maintenance plan for the Greeley carbon monoxide (CO) maintenance area for the CO National Ambient Air Quality Standard (NAAQS). In that NPR, EPA proposed to approve the revised maintenance plan, the transportation conformity motor vehicle emission budgets for 2005 through 2009, 2010 through 2014, and 2015 and beyond, the revisions to Colorado's Regulation No. 11 “Motor Vehicle Emissions Inspection Program,” and the revisions to Colorado's Regulation No. 13 “Oxygenated Fuels Program.” In this action, EPA is approving the Greeley CO revised maintenance plan, the transportation conformity motor vehicle emission budgets, and the revisions to Regulation No. 11 and Regulation No. 13. This action is being taken under section 110 of the Clean Air Act.

EFFECTIVE DATE: September 19, 2005.

ADDRESSES: EPA has established a docket for this action under Docket ID No. RME R08-OAR-2004-CO-0004. All documents in the docket are listed in the Regional Materials in EDOCKET index at http://docket.epa.gov/rmepub/index.jsp. Although listed in the index, some information is not publicly available, i.e., Confidential Business Information (CBI) or other information whose disclosure is restricted by statute. Certain other material, such as copyrighted material, is not placed on the Internet and will be publicly available only in hard copy form. Publicly available docket materials are available either electronically in the Regional Materials in EDOCKET or in hard copy at the Air and Radiation Program, Environmental Protection Agency (EPA), Region 8, 999 18th Street, Suite 300, Denver, Colorado 80202-2466. EPA requests that if at all possible, you contact the individual listed in the FOR FURTHER INFORMATION CONTACT section to view the hard copy of the docket. You may view the hard copy of the docket Monday through Friday, 8 a.m. to 4 p.m., excluding federal holidays.

FOR FURTHER INFORMATION CONTACT: Tim Russ, Air and Radiation Program, Environmental Protection Agency (EPA), Region 8, Mailcode 8P-AR, 999 18th Street, Suite 300, Denver, Colorado 80202-2466, phone (303) 312-6479, and e-mail at: russ.tim@epa.gov.

SUPPLEMENTARY INFORMATION:

Table of Contents

I. What Is the Purpose of This Action?

II. Final Action

III. Statutory and Executive Order Reviews

Definitions

For the purpose of this document, we are giving meaning to certain words or initials as follows:

(i) The words or initials Act or CAA mean or refer to the Clean Air Act, unless the context indicates otherwise.

(ii) The words EPA, we, us or our mean or refer to the United States Environmental Protection Agency.

(iii) The initials NAAQS mean National Ambient Air Quality Standard.

(iv) The initials SIP mean or refer to State Implementation Plan.

(v) The word State means the State of Colorado, unless the context indicates otherwise.

I. What Is the Purpose of This Action?

On May 17, 2005, we published an NPR that proposed approval of the Greeley area's revised CO maintenance plan, transportation conformity motor vehicle emissions budgets (MVEB), and associated SIP elements. See 70 FR 28233. The NPR also opened a 30-day public comment period on this proposed Agency action. We did not receive any comments.

In this final action, we are approving the revised Greeley CO maintenance plan that demonstrates maintenance of the CO NAAQS through 2015, we're approving the transportation conformity MVEBs of 63 tons per day (tpd) for 2005 through 2009, 62 tpd for 2010 through 2014, and 60 tpd for 2015 and beyond, we're approving revisions to Regulation No. 11 that the Governor submitted on June 20, 2003 that eliminate the requirement to implement a motor vehicle emissions inspection and maintenance (I/M) program in the Greeley area, and we are approving revisions to Regulation No. 13 that the Governor submitted on June 20, 2003 that eliminate the requirement to implement a winter time oxygenated fuels program in the Greeley area.

Detailed descriptions regarding the revised Greeley CO maintenance plan, the MVEBs, and the revisions to Regulation No. 11 and Regulation No. 13 are provided in our May 17, 2005, NPR action (see 70 FR 28233) and will not be repeated here. Please refer to our May 17, 2005, NPR and Docket ID No. RME R08-OAR-2004-CO-0004. As noted above, all documents in the docket are listed in the Regional Materials in EDOCKET index at http://docket.epa.gov/rmepub/index.jsp.

II. Final Action

In this action, EPA is approving the following:

A. The revised Greeley CO maintenance plan. EPA is approving the revised Greeley CO maintenance plan for the CO NAAQS as adopted by the Colorado AQCC on December 19, 2002, and submitted by the Governor to us on June 20, 2003.

B. The transportation motor vehicle emissions budgets. EPA is approving transportation conformity MVEBs contained in the Greeley revised CO maintenance plan and defined as 63 tons per day (tpd) for 2005 through 2009, 62 tpd for 2010 through 2014, and 60 tpd for 2015 and beyond, as adopted by the AQCC on December 19, 2002, State effective on March 2, 2003, and submitted by the Governor to us on June 20, 2003.

C. The revisions to Regulation No. 11. EPA is approving the revisions to Colorado's Regulation No. 11, entitled “Motor Vehicle Emissions Inspection Program,” as adopted by the AQCC on December 19, 2002, State effective on March 2, 2003, and submitted by the Governor to us on June 20, 2003.

D. The revisions to Regulation No. 13. EPA is approving the revisions to Colorado's Regulation No. 13, entitled “Oxygenated Fuels Program,” as adopted by the AQCC on December 19, 2002, State effective on March 2, 2003, and submitted by the Governor to us on June 20, 2003.

This action will become effective September 19, 2005.

III Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2).

Under section 307(b)(1) of the Clean Air Act, petitions for judicial review of this action must be filed in the United States Court of Appeals for the appropriate circuit by October 18, 2005. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Incorporation by reference, Intergovernmental relations, Reporting and recordkeeping requirements.

Dated: August 2, 2005.
Robert E. Roberts,
Regional Administrator, Region VIII.

40 CFR part 52 is amended to read as follows:

PART 52—[AMENDED]

1. The authority citation for Part 52 continues to read as follows:

Authority: 42 U.S.C. 7401 et seq.

Subpart G—Colorado

2. Section 52.320 is amended by adding paragraph (c)(104) to read as follows:

§ 52.320 Identification of plan.

* * * * *

(c) * * *

(104) On June 20, 2003, the Governor of Colorado submitted SIP revisions to Colorado's Regulation No. 11 “Motor Vehicle Emissions Inspection Program” that eliminate the requirement in the SIP to implement a motor vehicle inspection and maintenance program in Weld County (which includes the Greeley area) after January 1, 2004. On June 20, 2003, the Governor also submitted SIP revisions to Colorado's Regulation No. 13 “Oxygenated Fuels Program” that eliminate the oxygenated fuel requirements for Weld County (which includes the Greeley area) after January 1, 2004.

(i) Incorporation by reference.

(A) Regulation No. 11 “Motor Vehicle Emissions Inspection Program”, 5 CCR 1001-13, Part A.I, second sentence that reads, “The provisions of this regulation applicable to Larimer and Weld counties shall not be included in the state implementation plan after January 1, 2004.”, as adopted on December 19, 2002, and effective March 2, 2003.

(B) Regulation No. 13 “Reduction of Carbon Monoxide Emissions from Gasoline Powered Motor Vehicles through the use of Oxygenated Gasolines,” 5 CCR 1001-16, Part I.D.15, Part II.A, Part II.C, as adopted on December 19, 2002, and effective March 2, 2003.

3. Section 52.349 is amended by adding paragraph (l) to read as follows:

§ 52.349 Control strategy: Carbon monoxide.

* * * * *

(l) Revisions to the Colorado State Implementation Plan entitled “Revised Carbon Monoxide Maintenance Plan for the Greeley Attainment/Maintenance Area,” as adopted by the Colorado Air Quality Control Commission on December 19, 2002, and submitted by the Governor on June 20, 2003.

[FR Doc. 05-16486 Filed 8-18-05; 8:45 am]

BILLING CODE 6560-50-P